ENVIRONMENTAL PROTECTION AGENCY

40 CFR Part 711

[EPA-HQ-OPPT-2018-0321; FRL-5982.2-01-OCSPP]

RIN 2070-AK33

Chemical Data Reporting; Extension of the 2024 Submission Period

AGENCY: Environmental Protection Agency (EPA).

ACTION: Final rule.

SUMMARY: The Environmental Protection Agency (EPA or Agency) is amending the Toxic Substances Control Act (TSCA) Chemical Data Reporting (CDR) regulations to extend the submission deadline for 2024 reports to November 22, 2024. This extension is for the 2024 submission period only. The TSCA CDR regulations require manufacturers (including importers) of certain chemical substances included on the TSCA Chemical Substance Inventory (TSCA Inventory) to report data on the manufacturing, processing, and use of the chemical substances.

DATES: This final rule is effective September 27, 2024.

ADDRESSES: The docket for this action, identified by docket identification (ID) number EPA-HQ-OPPT-2018-0321, is available online at https://www.regulations.gov. Additional information about dockets generally, along with instructions for visiting the docket in-person, is available at https://www.epa.gov/dockets.

FOR FURTHER INFORMATION CONTACT:

For technical information contact: Susan Sharkey, Data Gathering, Management, and Policy Division (7406M), Office of Pollution Prevention and Toxics, Environmental Protection Agency, 1200 Pennsylvania Ave. NW, Washington, DC 20460-0001; telephone number: (202) 564-8789; email address: sharkey.susan@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. Does this action apply to me?

You may be potentially affected by this action if you manufacture (including import) chemical substances listed on the TSCA Inventory. The following list of North American Industrial Classification System (NAICS) codes is not intended to be exhaustive, but rather provides a guide to help readers determine whether this document applies to them. Potentially affected entities may include but are not limited to:

• Chemical manufacturers (including importers) (NAICS codes 325 and 324110, e.g., chemical manufacturing and processing and petroleum refineries) and

• Chemical users and processors who may manufacture a byproduct chemical substance (NAICS codes 22, 322, 331, and 3344, e.g., utilities, paper manufacturing, primary metal manufacturing, and semiconductor and other electronic component manufacturing).

B. What action is the Agency taking?

The current 2024 CDR submission period is from June 1 to September 30, 2024. EPA is issuing this amendment to extend the deadline for the submission of 2024 CDR reports until November 22, 2024. This extension is for the 2024 submission period only. Subsequent submission periods (recurring every four years, next in 2028) are not being amended.

EPA is taking this action in response to concerns related to the 2024 CDR data submission tool, primarily associated with the ability of the reporting tool to correctly capture substantiations for chemical identity CBI claims. In the tool, submitters are able to claim as confidential the identity of a chemical substance already listed as confidential on the TSCA Inventory (40 CFR 711.30(c)) by checking the appropriate CBI box in the reporting tool and submitting detailed written answers to substantiation questions. Late in the 2024 reporting period, however, EPA found that when submitters used the reporting tool to copy the substantiation from one chemical to another, some questions and their responses were not copied and were, therefore, not included with the submission. The application erroneously indicated that the information was correctly copied and prevented users from supplying the missing information. Although this issue would only affect the small percentage of the submitters making chemical identity CBI claims, enabling each submitter to substantiate a CBI claim according to the requirements of 40 CFR 711.30 is important.

As noted previously, this issue with the CDR data submission tool was identified very recently. When EPA identified the issue, the Agency took immediate action to fix the issue and extend the reporting period. EPA expects to have the reporting tool working properly before the end of September 2024. Ahead of deploying this correction to the tool, EPA (through the reporting application) has asked that users submitting CBI claims involving chemical identities refrain from copying data from one chemical to another. The risk that some users may still use this copy functionality without realizing that it does not work properly (and that their CBI claim(s) therefore have not been properly substantiated), however, indicates that more time is needed to ensure reports are accurately filed. To this end, submitters need adequate time to verify and update, if needed, their chemical identity confidentiality claims and supporting substantiations. Further, EPA needs time to ensure that the update to the reporting tool works as intended, and that sites that have submitted CDR forms prior to deployment of this update have adequate time to review their submission and make updates as appropriate, should this error have resulted in their submission having been incorrectly provided to EPA.

C. What is the Agency's authority for taking this action?

The CDR rule was issued pursuant to the authority of TSCA section 8(a), 15 U.S.C. 2607(a).

II. Why is this amendment issued as a final rule?

Section 553(b)(B) of the Administrative Procedure Act (APA), 5 U.S.C. 553(b)(B), provides that, when an agency for good cause finds that public notice and comment procedures are impracticable, unnecessary, or contrary to the public interest, the agency may issue a rule without providing notice and an opportunity for public comment. The EPA has determined that there is good cause for making this rule to extend the reporting period final without prior proposal and opportunity for comment, because such notice and opportunity for comment is impracticable for the reasons explained in this section.

As explained in the prior section, the electronic reporting issue has unexpectedly narrowed the time window the Agency had allotted under the regulations to complete and submit 2024 CDR reports. The extent of this electronic reporting issue was unforeseen, given that EPA had conducted a beta test with expected users of the reporting tool prior to the beginning of the submission period, and EPA staff similarly had not discovered this issue until three weeks ahead of the September 30, 2024, reporting deadline. Further, most sites submit CDR data during the final month of the reporting period, having collected and prepared data earlier in the submission period. Given that the current reporting deadline is September 30, 2024, regular notice and comment procedures to extend that deadline to address these unforeseen circumstances are impracticable, as the rule could not be finalized before the current reporting deadline. Additionally, notice and comment is impracticable because this deadline extension merely enables reports to be submitted as required under the current regulations, absent these unforeseen submission problems, and does not impact the substance of the data collection or other regulatory requirements.

This action does not alter the substantive CDR reporting requirements in any way. The Agency also believes this extension will not result in a significant delay in the processing and availability of CDR information to potential users. This extension will not significantly impact the Agency's ability to carry out actions and activities that rely upon CDR, including work on the TSCA risk evaluations. EPA will consider CDR information as soon as it becomes available and work on risk evaluations remains ongoing. Further, this action is consistent with the public interest because it is designed to facilitate compliance with the CDR rule and to ensure that the 2024 collection includes accurate data on chemical manufacturing, processing, and use in the United States. Finally, any impact on the regulated community is expected to be beneficial given that the extension provides additional time to submit accurate CDR reports to EPA.

APA section 553(d) (5 U.S.C. 553(d)), in turn, allows an agency to make a rule immediately effective “for good cause found and published with the rule.” EPA has determined that there is good cause for making this final rule effective immediately because the current deadline for reporting is imminent and the regulated community does not need time to prepare for this change in the reporting deadline; rather, the reporting deadline extension provides the needed time for the regulated community to meet the existing requirements. Such an extension also “relieves a restriction” under APA 553(d)(1), 5 U.S.C. 553(d)(1).

For the reasons discussed in this unit, the Agency finds that good cause exists under APA section 553(d) to make this rule effective immediately upon publication in the Federal Register.

III. Do any of the statutory and executive order review requirements apply to this action?

No. This action is a technical amendment to 40 CFR part 711 that is necessary in order to extend the deadline for the 2024 CDR reporting period that appears in 40 CFR 711.20. This action does not otherwise impose any new requirements or change the substantive requirements. Additional information about these statutes and Executive Orders can be found at https://www.epa.gov/laws-regulations/laws-and-executive-orders.

A. Executive Order 12866: Regulatory Planning and Review and Executive Order 14094: Modernizing Regulatory Review

This action is not a significant regulatory action as defined in Executive Order 12866(58 FR 51735, October 4, 1993), as amended by Executive Order 14094 (88 FR 21879, April 11, 2023), and was therefore not subject to Executive Order 12866 review.

B. Paperwork Reduction Act (PRA)

This action does not contain any new information collection burden under the PRA, 44 U.S.C. 3501 et seq. OMB has previously approved the information collection activities contained in the existing regulations and has assigned OMB control number 2070-0162 (EPA ICR No. 1884.15). This action does not create any new reporting or recordkeeping obligations, and does not otherwise change the burden estimates that were approved.

C. Regulatory Flexibility Act (RFA)

This action is not subject to the RFA, 5 U.S.C. 601 et seq. The RFA applies only to rules subject to notice and comment rulemaking requirements under the APA, 5 U.S.C. 553, or any other statute. This rule is not subject to notice and comment requirements under the APA because the Agency has invoked the APA “good cause” exemption (see Unit II.).

D. Unfunded Mandates Reform Act (UMRA)

This action does not contain an unfunded mandate of $100 million (in 1995 dollars and adjusted annually for inflation) or more as described in UMRA, 2. U.S.C. 1531-1538, and does not significantly or uniquely affect small governments. The action imposes no enforceable duty on any state, local or tribal governments or the private sector.

E. Executive Order 13132: Federalism

This action will not have federalism impacts as defined in Executive Order 13132 (64 FR 43255, August 10, 1999) because this action will not have substantial direct effects on States, on the relationship between the Federal Government and States, or on the distribution of power and responsibilities between the Federal Government and States.

F. Executive Order 13175: Consultation and Coordination With Indian Tribal Governments

This action will not have tribal implications as defined in Executive Order 13175 (65 FR 67249, November 9, 2000) because this action will not have substantial direct effects on tribal governments, on the relationship between the Federal Government and Indian tribes, or on the distribution of power and responsibilities between the Federal Government and Indian tribes.

G. Executive Order 13045: Protection of Children From Environmental Health Risks and Safety Risks

This action is not subject to Executive Order 13045 (62 FR 19885, April 23, 1997), because it does not address environmental health or safety risks disproportionately affecting children. Since this action does not concern human health, EPA's 2021 Policy on Children's Health also does not apply.

H. Executive Order 13211: Actions Concerning Regulations That Significantly Affect Energy Supply, Distribution, or Use

This action is not a “significant energy action” as defined in Executive Order 13211 (66 FR 28355, May 22, 2001), because it is not likely to have any adverse effect on the supply, distribution or use of energy.

I. National Technology Transfer and Advancement Act (NTTAA)

This action does not involve technical standards under the NTTAA section 12(d), 15 U.S.C. 272.

J. Executive Order 12898: Federal Actions To Address Environmental Justice in Minority Populations and Low-Income Populations and Executive Order 14096: Revitalizing Our Nation's Commitment to Environmental Justice for All

EPA believes that this type of action does not concern human health or environmental conditions and therefore cannot be evaluated with respect to potentially disproportionate and adverse effects on communities with environmental justice concerns in accordance with Executive Orders 12898 (59 FR 7629, February 16, 1994) and 14096 (88 FR 25251, April 26, 2023).

K. Congressional Review Act (CRA)

This action is subject to the CRA, 5 U.S.C. 801 et seq., and EPA will submit a rule report to each House of the Congress and to the Comptroller General of the United States. This does not meet the criteria set forth in 5 U.S.C. 804(2).

List of Subjects in 40 CFR Part 711

Environmental protection, Chemicals, Confidential Business Information (CBI), Hazardous materials, Importer, Manufacturer, Reporting and recordkeeping requirements.

Dated: September 23, 2024.
Michal Freedhoff,
Assistant Administrator, Office of Chemical Safety and Pollution Prevention.

Therefore, for reasons set forth in the preamble, EPA amends 40 CFR part 711 as follows:

PART 711—[AMENDED]

1. The authority citation for part 711 continues to read as follows:

Authority: 15 U.S.C. 2607(a).

2. Revise and republish § 711.20 to read as follows:

§ 711.20 When to report.

All information reported to EPA in response to the requirements of this part must be submitted during an applicable submission period. The 2024 CDR submission period is from June 1, 2024, to November 22, 2024. Subsequent recurring submission periods are from June 1 to September 30 at 4-year intervals, beginning in 2028. In each submission period, any person described in § 711.8 must report as described in this part.

[FR Doc. 2024-22060 Filed 9-26-24; 8:45 am]

BILLING CODE 6560-50-P